INTERNATIONAL TRADE COMMISSION

[Investigation Nos. 701-TA-726 and 731-TA-1694 (Final)]

High Chrome Cast Iron Grinding Media From India

Determinations

On the basis of the record ¹ developed in the subject investigations, the United States International Trade Commission (“Commission”) determines, pursuant to the Tariff Act of 1930 (“the Act”), that an industry in the United States is materially injured by reason of imports of high chrome cast iron grinding media from India, provided for in subheading 7325.91.00 of the Harmonized Tariff Schedule of the United States, that have been found by the U.S. Department of Commerce (“Commerce”) to be sold in the United States at less than fair value (“LTFV”), and imports of the subject merchandise from India that have been found to be subsidized by the government of India.²

¹ The record is defined in § 207.2(f) of the Commission's Rules of Practice and Procedure (19 CFR 207.2(f)).

² 90 FR 17577 (April 28, 2025); 90 FR 17575 (April 28, 2025).

Background

The Commission instituted these investigations effective April 26, 2024, following receipt of petitions filed with the Commission and Commerce by Magotteaux Inc., Franklin, Tennessee.

The final phase of the investigations was scheduled by the Commission following notification of preliminary determinations by Commerce that imports of high chrome cast iron grinding media from India were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 23, 2024 (89 FR 104560). The Commission conducted its hearing on April 24, 2025. All persons who requested the opportunity were permitted to participate.

The Commission made these determinations pursuant to §§ 705(b) and 735(b) of the Act (19 U.S.C. 1671d(b) and 19 U.S.C. 1673d(b)). It completed and filed its determinations in these investigations on June 11, 2025. The views of the Commission are contained in USITC Publication 5632 (June 2025), entitled High Chrome Cast Iron Grinding Media from India: Investigation Nos. 701-TA-726 and 731-TA-1694 (Final).

By order of the Commission.
Issued: June 11, 2025.
Lisa Barton,
Secretary to the Commission.

[FR Doc. 2025-10993 Filed 6-16-25; 8:45 am]

BILLING CODE 7020-02-P